DEPARTMENT OF LABOR

Agency Information Collection Activities; Submission for OMB Review; Comment Request; Workforce Innovation and Opportunity Act Joint Quarterly Narrative Performance Report

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that the agency receives on or before May 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: This information collection includes data validation for the Senior Community Service Employment Program (SCSEP), and a streamlined quarterly narrative report template to support the (1) reporting, (2) recordkeeping, and (3) program evaluation requirements for the following grant programs: National Dislocated Worker Grants (DWG), H-1B grant programs (started July 1, 2016 or later), National Farmworker Jobs Program (NFJP), Reentry Employment Opportunities (REO) youth and adult grant programs, SCSEP, and YouthBuild (YB). This information collection does not increase the burden on grantees. SCSEP data validation assesses the accuracy of data collected and reported to ETA on program activities and outcomes. The accuracy and reliability of program reports submitted by states and grantees using federal funds are fundamental elements of good public administration and are necessary tools for maintaining and demonstrating system integrity. The data validation requirement for employment and training programs strengthens the workforce system by ensuring that accurate and reliable information on program activities and outcomes is available. The WIOA Joint Quarterly Narrative Performance Report provides a detailed account of program activities, accomplishments, and progress toward performance outcomes during the quarter. It also provides information on grant challenges and timeline progress, as well as the opportunity to share success stories. For additional substantive information about this ICR, see the related notice published in the Federal Register on December 8, 2023 (88 FR 85655).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-ETA.

Title of Collection: Workforce Innovation and Opportunity Act Joint Quarterly Narrative. Performance Report.

OMB Control Number: 1205-0448.

Affected Public: State, Local and Tribal Governments.

Total Estimated Number of Respondents: 1,320.

Total Estimated Number of Responses: 5,580.

Total Estimated Annual Time Burden: 64,950 hours.

Total Estimated Annual Other Costs Burden: $0.

(Authority: 44 U.S.C. 3507(a)(1)(D))

Michael Howell,
Senior Paperwork Reduction Act Analyst.

[FR Doc. 2024-07970 Filed 4-15-24; 8:45 am]

BILLING CODE 4510-FN-P